DEPARTMENT OF AGRICULTURE

Forest Service

Proposed Recreation Fee Sites

AGENCY: Forest Service, Agriculture (USDA).

ACTION: Notice.

SUMMARY: The National Forests in Mississippi are proposing to establish a recreation fee site and two special recreation permits. Proposed recreation fees collected at the proposed recreation fee site and for the proposed special recreation permits would be used for operation, maintenance, and improvement of the site and the specialized recreation use covered by the proposed special recreation permit. An analysis of nearby recreation fee sites and specialized recreation uses with similar amenities shows the proposed recreation fees that would be charged at the proposed recreation fee site and for the proposed special recreation permit are reasonable and typical of similar recreation fee sites and specialized recreation uses in the area.

DATES: If approved, the proposed recreation fees would be established no earlier than six months following the publication of this notice in the Federal Register.

ADDRESSES: National Forests in Mississippi, Attention: Recreation Fees, 968 Highway 15 South, Laurel, MS 39443.

FOR FURTHER INFORMATION CONTACT: Jacob Rhyne, Recreation Program Manager, 601-804-9767 or Jacob.rhyne@usda.gov.

SUPPLEMENTARY INFORMATION: The Federal Lands Recreation Enhancement Act (16 U.S.C. 6803(b)) requires the Forest Service to publish in the Federal Register a six-month advance notice of establishment of recreation fee sites. In accordance with Forest Service Handbook 2309.13, chapter 30, the Forest Service will publish the proposed recreation fee sites and proposed recreation fees in local newspapers and other local publications for public comment. Most of the proposed recreation fees would be spent where they are collected to enhance the visitor experience at the proposed recreation fee sites.

A proposed expanded amenity recreation fee of $10 per night would be charged for Big Foot Horse Camp. A proposed special recreation permit recreation fee of $10 per person per day is proposed at the South Bethel Motorized Trail. In addition, a proposed special recreation permit recreation fee of $5 per person per day is proposed at the Black Creek Shooing Range.

Expenditures of recreation fees collected at the proposed recreation fee site and for the proposed special recreation permits would enhance recreation opportunities, improve customer service, and address maintenance needs. Once public involvement is complete, the proposed recreation fee site, proposed special recreation permits, and proposed recreation fees will be reviewed by a Recreation Resource Advisory Committee prior to a final decision and implementation.

Dated: September 19, 2024.
Jacqueline Emanuel,
Associate Deputy Chief, National Forest System.

[FR Doc. 2024-22007 Filed 9-25-24; 8:45 am]

BILLING CODE 3411-15-P